DEPARTMENT OF JUSTICE

Antitrust Division

Notice Pursuant to the National Cooperative Research and Production Act of 1993—Application Service Provider Industry Consortium, Inc.

Notice is hereby given that, on January 19, 2000, pursuant to section 6(a) of the National Cooperative Research and Production Act of 1993, 15 U.S.C. 4301 et seq. (“the Act”), Application Service Provider Industry Consortium, Inc. has filed written notifications simultaneously with the Attorney General and the Federal Trade Commission disclosing changes in its membership status. The notifications were filed for the purpose of extending the Act's provisions limiting the recovery of antitrust plaintiffs to actual damages under specified circumstances. Specifically, NightFire Software, Inc., Berkeley, CA; access-esolutions.com, Pittsburgh, PA; Campio Communications, Inc., Milpitas, CA; Concord Communications, Inc., Marlboro, MA; iRenaissance Inc., Research Triangle Park, NC; Allied Riser Communications (ARC), Dallas, TX; Novell, Orem, UT; Universal, Marlton, NJ; Cyrus Intersoft, Inc., Minneapolis, MN; Teleias, Toronto, ONTARIO, CANADA; ezCRM.com, Ramat Gan, ISRAEL; Mindbridge.com, Fort Washington, PA; PubNETics, Inc., Denver, CO; Oracle Corporation, Redwood Shores, CA; Rhythms NetConnections, Englewood, CO; Fujitsu Siemens Computers, Paderborn, GERMANY; Corel Corporation, Ottawa, CANADA; TEKsystems, Inc., Hanover, MD; PSINet, Herndon, VA; ASP Industry Consortium Japan, Minato-Ku Tokyo, JAPAN; Instinctive Technology, Inc., Cambridge, MA; Wyzdom Solutions, Inc., San Francisco, CA; Inprise Borland, Scotts Valley, CA; Encentris Corporation, Dallas, TX; HydraWEB Technologies, New York, NY; Paramount Technologies, Inc., Southfield, MI; XOR Network Engineering, Boulder, CO; Intelligroup, Inc., Edison, NJ; AccTrak21 Inc., Santa Clara, CA; Paradigm 3, San Jose, CA; MDIS Group plc, Hemel Hempstead, Hertfordshire, UNITED KINGDOM; enCommerce, Santa Clara, CA; Computer Associates' interBiz Financial Group, Fort Lee, NJ; 2WAY Corporation, Seattle, WA; aspective, Huntingdon, Cambridgeshire, UNITED KINGDOM; Raymond James & Associates, St. Petersburg, FL; Candle Corporation, El Segundo, CA; casecentral.com, Inc., San Francisco, CA; CobWeb, Inc., Issaquah, WA; Eftia OSS Solutions, Ottawa, CANADA; Optika, Inc., Colorado Springs, CO; Sideware Systems Inc., North Vancouver, British Columbia, CANADA; Quest Software, Irvine, CA; Thintelectron Service Laboratories, Ormond Beach, FL; Managed Object Solutions, Inc., Fairfax, VA; Infinium, Hyannis, MA; CITEC, Brisbane, Queensland, AUSTRALIA; Nextron Communications, San Jose, CA; Push Computing, Inc., Santa Barbara, CA; Conference Plus, Inc., Schaumberg, IL; EINSTEINet AG, Elmshorn, GERMANY; Netegrity, Waltham, MA; Vertical Networks, Sunnyvale, CA; Seven Mountains Software, Inc., San Mateo, CA; Micronpc.com, Nampa, ID; NTT Software Corporation, Palo Alto, CA; PlaceWare, Inc., Mountain View, CA; LASON, Inc., Troy, MI; Sterling Commerce-MSD, Atlanta, GA; LearnLinc Corporation, Troy, NY; APELDORN'S Communication & Information Tech GmbH, Bad Homburg, GERMANY; apps4biz.com, Andover, MA; TRW, Reston, VA; The viaLink Company, Edmond, OK; Portal Software, Inc., Cupertino, CA; Excalibur Technologies Corp., Vienna, VA; Illuminet, Olympia, WA; Personable.com Inc., Fountain Valley, CA; MSHOW.com, Littleton, CO; DSL.net, Inc., New Haven, CT; CrossKeys, Kanata, Ontario, CANADA; TexSys RD, Irving, TX; Network-1 Security Solutions, Inc., Waltham, MA; ThinRetail, Inc., Seattle, WA; Network Integration Solutions, Inc., Seattle, WA; Orcom Solutions, Inc., Bend, OR; Who?Vision, Lake Forest, CA; InfoCast Corporation, Toronto, Ontario, CANADA; CWHKT, Sheung Wan, HONG KONG; Objective Systems Integrators, Inc., Folsom, CA; REL-TEK Systems & Design, Inc., Rockville, MD; Exclaim Technologies, Inc., San Jose, CA; Science Applications International Corp., San Diego, CA; NetToll, Issy les Moulineaux, Cedex, France; Voyant Technologies, Westminster, CO; BusinessEdge Solutions, Edison, NJ; Eltrax Systems Inc., Atlanta, GA; Top Layer Networks, Westboro, MA; Canopy International, Newton, MA; ZLand.com, Aliso Viejo, CA; InfoCure, Atlanta, GA; Commtouch Software, Inc., Santa Clara, CA; appe-e.com, Laval, Quebec, CANADA; InsynQ, Inc., Tacoma, WA; Eprise Corporation, Framingham, MA; SOFTRAX Corporation, Canton, MA; InterClient, Co Dublin, IRELAND; JSB Corporation, Scotts Valley, CA; Newmoon.com, San Jose, CA; eNABLE Solutions, Irvine, CA; NetNation Communications Inc., Vancouver, British Columbia, CANADA; Response Networks, Inc., Alexandria, VA; RDS srl, Parma, ITALY; SilverBack Technologies, Inc., Billerica, MA; Intesa, Caracas, VENEZUELA; Teleglobe Communications, Reston, VA; Rackspace.com, San Antonio, TX; Atreus Systems Corporation, Ottawa, Ontario, CANADA; City Reach International, London, UNITED KINGDOM; Aplion Networks, Piscataway, NJ; Cosaweb Inc., Downer's Grove, IL; Modus Novo, Lod, ISRAEL; JurisdictionUSA, Phoenix, AZ; Remedy Corporation, Mountain View, CA; cMeRun Corp, Kirkland, WA; AppStream, Inc., Mountain view, CA; Zantaz.com, Pleasanton, CA; Nexus Technology Inc., Des Plaines, IL; ObjectSwitch, San Rafael, CA; ASPEC 2000, Atlanta, GA; FirstWorld, Greenwood Village, CO; Marathon Technologies Corporation, Boxborough, MA; @mobile.com, Bellevue, WA; Cabletron Systems, Inc., Rochester, NH; Center7, Inc., Lindon, UT; Chell.com, Calgary, Alberta, CANADA; Maxspeed Corporation, Palo Alto, CA; Active Software, Santa Clara, CA; CinApps, division of Cincom Systems, Inc., Cincinnati, OH; Computron Software, Inc., Rutherford, NJ; Deltek Systems, Inc., McLean, VA; eGain Communications Corp., Sunnyvale, CA; Informative, Inc., S. San Francisco, CA; International Software Solutions, Inc., Herndon, VA; and New Edge Networks, Vancouver, WA have been added as parties to this venture. Also, the following members have changed their corporate names: SPG to Spirian Technologies, Inc., Chicago, IL; and NexBase to diCarta, Inc., Redwood City, CA.

No other changes have been made in either the membership or planned activity of the group research project. Membership in this group research project remains open, and Application Service Provider Industry Consortium, Inc. intends to file additional written notification disclosing all changes in membership.

On July 28, 1999, Application Service Provider Industry Consortium, Inc. filed its original notification pursuant to section 6(a) of the Act. A notice has not yet been published in the Federal Register.

The last notification was filed with the Department on October 21, 1999. A notice has not yet been published in the Federal Register.

Constance K. Robinson,
Director of Operations, Antitrust Division.

[FR Doc. 00-16470 Filed 6-28-00; 8:45 am]

BILLING CODE 4410-11-M